ENVIRONMENTAL PROTECTION AGENCY

[ER-FRL-9039-5]

Environmental Impact Statements; Notice of Availability

Responsible Agency: Office of Federal Activities, General Information (202) 564-7156 or https://www2.epa.gov/nepa/.

Weekly receipt of Environmental Impact Statements

Filed 05/07/2018 Through 05/11/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180104, Final, BLM, UT, Final Environmental Impact Statement for the Enefit American Oil Utility Corridor Project, Review Period Ends: 07/09/2018, Contact: Stephanie Howard 435-781-4469

EIS No. 20180105, Final Supplement, USFWS, MT, Final Supplemental Environmental Statement for the Proposed Amendment to the Endangered Species Act 10(a)(1)(B) Permit Associated with the Montana Department of Natural Resources and Conservation Forested State Trust Lands Habitat Conservation Plan, Review Period Ends: 06/25/2018, Contact: Amelia Orton-Palmer 303-236-4211

EIS No. 20180106, Final, USFS, OR, Ringo FEIS & FPA, Review Period Ends: 06/25/2018, Contact: Joseph Bowles 541-433-3209

EIS No. 20180107, Draft, NOAA, MA, Draft Environmental Impact Statement for Jonah Crab Fishery Management Plan, Comment Period Ends: 08/17/2018, Contact: Allison Murphy 978-281-9122

EIS No. 20180108, Draft, OSM, NM, San Juan Mine Deep Lease Extension Mining Plan Modification Draft Environmental Impact Statement, Comment Period Ends: 07/09/2018, Contact: Gretchen Pinkham 303-293-5088

EIS No. 20180109, Final, USFS, AZ, Plan Revision for the Coconino National Forest, Review Period Ends: 08/22/2018, Contact: Vernon Keller 928-527-3415

EIS No. 20180110, Draft, USACE, CA, Lower Elkhorn Basin Levee Setback Project Environmental Impact Statement/Environmental Impact Report, Comment Period Ends: 07/09/2018, Contact: Tanis Toland 916-557-6717

Dated: May 22, 2018.
Rob Tomiak,
Director, Office of Federal Activities.

[FR Doc. 2018-11253 Filed 5-24-18; 8:45 am]

BILLING CODE 6560-50-P